DEPARTMENT OF ENERGY

Federal Energy Regulatory Commission

[Docket No. EL01-75-000]

Cities of Vernon, California v. California Independent System Operator Corp. Notice of Complaint

May 8, 2001.

Take notice that on May 7, 2001, the City of Vernon, California (Vernon) tendered for filing a Complaint Requesting Fast Track Processing against the California Independent System Operator Corporation (ISO). The Vernon Complaint seeks an order from the Commission that the ISO may not require Vernon to interrupt firm service to Vernon customers so that energy scheduled by Vernon for that load may be appropriated and provided to other utilities that have chosen not to procure or schedule in advance sufficient resources to serve their loads.

Any person desiring to be heard or to protest this filing should file a motion to intervene or protest with the Federal Energy Regulatory Commission, 888 First Street, NE., Washington, DC. 20426, in accordance with Rules 211 and 214 of the Commission's Rules of Practice and Procedure (18 CFR 385.211 and 385.214). All such motions or protests must be filed on or before May 18, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before May 18, 2001. Comments, protests and interventions may be filed electronically via the internet in lieu of paper. See 18 CFR 385.2001(a)(1)(iii) and the instructions on the Commission's web site at http://www.ferc.fed.us/efi/doorbell.htm.

Linwood A. Watson, Jr.,
Acting Secretary.

[FR Doc. 01-12022 Filed 5-11-01; 8:45 am]

BILLING CODE 6717-01-M